DEPARTMENT OF ENERGY

Federal Energy Regulatory Commission

Sunshine Act Meeting Notice

September 10, 2009.

The following notice of meeting is published pursuant to section 3(a) of the government in the Sunshine Act (Pub. L. No. 94-409), 5 U.S.C. 552b:

Agency Holding Meeting: Federal Energy Regulatory Commission.

Date and Time: September 17, 2009. 10 a.m.

Place: Room 2C, 888 First Street, NE., Washington, DC 20426.

Status: Open.

Matters to be Considered: Agenda.

Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

951st—Meeting

Regular Meeting
[September 17, 2009, 10 a.m.]
Item No. | Docket No. | Company
ADMINISTRATIVE
A-1 | AD02-1-000 | Agency Administrative Matters.
A-2 | AD02-7-000 | Customer Matters, Reliability, Security and Market Operations.
A-3 | AD06-3-000 | Energy Market Update.
ELECTRIC
E-1 | RM05-5-017 | Standards for Business Practices and Communication Protocols for Public Utilities.
E-2 | OMITTED |
E-3 | OMITTED |
E-4 | RR09-4-000 | North American Electric Reliability Corporation.
E-5 | ER09-1192-000 | Southwest Power Pool, Inc.
E-6 | ER09-1247-000 | California Independent System Operator Corporation.
| ER09-1247-001 |
E-7 | ER09-240-001 | California Independent System Operator Corporation.
E-8 | NJ09-3-000 | Big Rivers Electric Corporation.
E-9 | OMITTED |
E-10 | ER09-650-001 | PJM Interconnection, L.L.C.
| ER09-650-002 |
E-11 | ER09-497-001 | PJM Interconnection, L.L.C.
E-12 | ER08-1317-002 | California Independent System Operator Corporation.
E-13 | ER08-53-000 | Termoelectrica U.S., LLC.
E-14 | EL08-14-002 | Black Oak Energy, L.L.C.
|  | EPIC Merchant Energy, L.P. and SESCO Enterprises, L.L.C. v. PJM Interconnection, L.L.C.
E-15 | ER09-730-002 | PJM Interconnection, L.L.C.
GAS
G-1 | RM09-21-000 | Revised Filing Requirements for Centralized Service Companies Under the Public Utility Holding Company Act of 2005, the Federal Power Act, and the Natural Gas Act.
G-2 | RP08-479-002 | Saltville Gas Storage Company, L.L.C.
| RP08-479-003 |
| RP08-487-002 | East Tennessee Natural Gas, LLC.
| RP08-487-003 |
| RP07-139-006 | Algonquin Gas Transmission, LLC.
| RP07-139-007 |
HYDRO
H-1 | P-2835-031 | New York State Electric & Gas Corporation.
H-2 | RM09-6-001 | Update of the Federal Energy Regulatory Commission's Fees Schedule for Annual Charges for the Use of Government Lands.
H-3 | P-12514-029 | Northern Indiana Public Service Company.
H-4 | HB131-08-1-000 | PPL Maine, LLC.
|  | PPL Great Works, LLC and Bangor Pacific Hydro Associates.
H-5 | P-2630-037 | PacifiCorp.
CERTIFICATES
C-1 | CP08-6-002 | Midcontinent Express Pipeline LLC.
| CP09-56-000 |
C-2 | CP09-110-000 | Mississippi Hub, LLC.
C-3 | CP09-88-000 | Transcontinental Gas Pipe Line Company, LLC.
C-4 | CP08-96-001 | Arlington Storage Company, LLC.

A free Web cast of this event is available through http://www.ferc.gov. Anyone with Internet access who desires to view this event can do so by navigating to http://www.ferc.gov's Calendar of Events and locating this event in the Calendar. The event will contain a link to its Web cast. The Capitol Connection provides technical support for the free Web casts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

Kimberly D. Bose,
Secretary.

[FR Doc. E9-22228 Filed 9-11-09; 11:15 am]

BILLING CODE P